DEPARTMENT OF HEALTH AND HUMAN SERVICES

Centers for Disease Control and Prevention

[60Day-04-04KK]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Seleda Perryman, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of “Steps to a HealthierUS” Program—New—National Center for Chronic Disease Prevention and Health Promotion (NCCDPHP), Centers for Disease Control and Prevention (CDC).

Background and Description of Proposed Collection

The Steps to a Healthier U.S. (HealthierUS) Program, known as STEPS, is an innovative program that advances the goals of helping Americans live longer, better, and healthier lives by preventing obesity, diabetes, and asthma. Forty communities across the country will or have received funding to develop and implement community action plans. These action plans will include multiple evidence-based public health strategies and interventions to increase healthy behavior change.

The goal of this evaluation is to provide annual data on STEPS program outcomes in the STEPS communities collectively and a matched national sample, using a questionnaire that is tailored to the needs of the STEPS evaluation. The survey will be administered by computer assisted telephone interviews (CATI) annually in the STEPS sites and in a nationally representative (non-STEPS sites) sample of adults 18 years and older that is matched to key characteristics of the STEPS sites collectively (e.g., age, race/ethnicity, income). The proposed survey will enable the CDC to determine if target outcomes are being achieved, and achieved more rapidly in Steps communities compared to the rest of the country.

The survey will help answer key questions that cannot be adequately addressed by existing data infrastructures or by each sites' local evaluation alone. In the absence of a comparison sample, it is not possible to know if progress in STEPS communities is simply a reflection of national secular trends or an impact of the interventions. By implementing a data collection system that is uniform across all STEPS sites and a national comparison sample, directly comparable data to answer specific research questions will be collected. Results from this data collection will help provide data necessary to develop innovative solutions that can be applied by states, communities, and CDC to improve the health behaviors of Americans. There are no costs to respondents except their time to respond.

Annualized Burden Table
Respondents | Number of respondents | Number of responses per respondent | Average burden per response (in hrs.) | Total burden hours
Adults at STEPS sites | 4000 | 1 | 25/60 | 1667
Adults at Non-STEPS sites | 2000 | 1 | 25/60 | 833
Total | 6000 |  |  | 2500

Dated: October 1, 2004.
Alvin Hall,
Director, Management Analysis and Services Office, Centers for Disease Control and Prevention.

[FR Doc. 04-22549 Filed 10-6-04; 8:45 am]

BILLING CODE 4163-18-P